DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2006 Person Interview and Person Interview Reinterview Operations.

Form Number(s): None (automated instrument).

Agency Approval Number: None.

Type of Request: New collection.

Burden: 2,017 hours.

Number of Respondents: 6,050.

Average Hours Per Response: 20 minutes.

Needs and Uses: The U.S. Census Bureau requests authorization from the Office of Management and Budget to conduct a Census Coverage Measurement (CCM) Operation in preparation for the 2010 Census. The CCM operation is to occur during the 2006 Census Test to evaluate new approaches that would produce improved measures of coverage error components for persons enumerated while making reductions in the number of people duplicated.

A coverage measurement program evaluates the coverage of the Decennial Census enumeration.

Coverage error includes:

—Components of Coverage Error—The two components of census coverage error are census omissions (missed persons) and erroneous inclusions. The latter includes duplicates, and persons who should not have been enumerated at a particular address (per our residence rules).

—Net Coverage Error—Reflects the difference between omissions and erroneous inclusions. A positive net error indicates an undercount, while a negative net error indicates an overcount.

The purpose of the 2006 CCM test is not to evaluate the coverage of the 2006 Census Test per se, but rather to test ways of improving previous coverage measurement methods. The CCM operation will evaluate improvements to CCM data collection methods and new approaches tested in 2006 to provide better CCM data and more accurate measures of coverage error for the 2010 Census.

The focus of the 2006 CCM Test is to test improved matching operations and data collection efforts designed to obtain more accurate information about where a person should have been enumerated according to our residence rules.

An additional objective for the 2006 CCM Test is to determine if we can conduct coverage measurement interviews before all census data collection is complete, and do so without contaminating the census and adversely affecting coverage measurement. This contamination would have a small effect on the census, but a more serious effect on coverage measurement. There are several operational and data quality advantages of conducting coverage measurement interviews as close to census day as possible, but we do not want to do this if it will seriously affect measurement of coverage error.

The 2006 CCM operations will use a sample of approximately 5,000 housing units in selected census tracts in Travis County, Texas; and 500 housing units on the Cheyenne River Reservation, off-reservation Trust Lands in South Dakota. The first operation of the CCM will be the PI operation. After data collected from the PI operation is matched to data collected by the short form enumeration in the CCM sample areas, certain cases will be sent for another CCM interview called the Person Followup Interview. A separate request for clearance will be submitted for that operation.

We also will conduct a quality control operation—PI Reinterview (PIRI). For this operation a random sample of approximately 500 housing units in selected census tracts in Travis County, Texas; and 50 housing units on the Cheyenne River Reservation, off-reservation Trust Lands in South Dakota will be selected. The purpose of the operation is to confirm that the PI enumerator conducted a PI with an actual household member or a valid proxy respondent. If the PIRI staff detects falsified information by the original enumerator, all cases worked by the original enumerator are reworked by reassigning the cases to a different PI enumerator.

Affected Public: Individuals or households.

Frequency: One time.

Respondent's Obligation: Mandatory.

Legal Authority: Title 13 U.S.C., 141 and 193.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: September 8, 2005.
Madeleine Clayton,
Management Analyst, Office of the Chief Information Officer.

[FR Doc. 05-18186 Filed 9-13-05; 8:45 am]

BILLING CODE 3510-07-P